ENVIRONMENTAL PROTECTION AGENCY

[FRL-9154-6]

Science Advisory Board Staff Office; Notification of a Public Teleconference and Public Meeting of the SAB Dioxin Review Panel

AGENCY: Environmental Protection Agency (EPA).

ACTION: Notice.

SUMMARY: The EPA Science Advisory Board (SAB) Staff Office announces a teleconference and a face-to-face meeting of the SAB Dioxin Review Panel to review EPA's Reanalysis of Key Issues Related to Dioxin Toxicity and Response to NAS Comments, External Review Draft.

DATES: There will be a public teleconference on June 24, 2010 from 1 p.m. to 3:30 p.m. (Eastern Daylight Time). The public meeting will be on July 13 from 9 a.m. to 5:30 p.m., July 14 from 8:30 a.m. to 5 p.m., and July 15 from 8:30 a.m. to 3 p.m. (Eastern Daylight Time).

ADDRESSES: The teleconference will be conducted by phone only. The face-to-face meeting on July 13-15 will be held at The Hilton Embassy Row Hotel, 2015 Massachusetts Avenue, NW., Washington, DC 20036; telephone (202) 265-1600.

FOR FURTHER INFORMATION CONTACT: Any member of the public wishing to obtain information concerning the public teleconference and public meeting may contact Dr. Thomas Armitage, Designated Federal Officer (DFO), EPA Science Advisory Board Staff Office (1400F), U.S. Environmental Protection Agency, 1200 Pennsylvania Avenue, NW., Washington, DC 20460; by telephone/voice mail at (202) 343-9995 or via e-mail at armitage.thomas@epa.gov. General information about the SAB, as well as any updates concerning the meeting announced in this notice, may be found on the SAB Web site at: http://www.epa.gov/sab.

SUPPLEMENTARY INFORMATION: Pursuant to the Federal Advisory Committee Act (FACA), 5 U.S.C., App. 2, notice is hereby given that the SAB Dioxin Review Panel will hold a public teleconference to discuss the plans for the subsequent public face-to-face meeting to conduct a peer review of EPA's Reanalysis of Key Issues Related to Dioxin Toxicity and Response to NAS Comments, External Review Draft (May 2010). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: In 2003, EPA's Office of Research and Development (ORD) developed a comprehensive reassessment of the health risks of dioxin and related compounds. In 2004, EPA asked the National Research Council of the National Academy of Sciences (NAS) to review the 2003 dioxin reassessment document. In 2006, The NAS published its review and identified three areas that required substantial improvement to support a scientifically robust risk characterization. These areas were: (1) Justification of approaches to dose-response modeling for cancer and non-cancer endpoints; (2) transparency and clarity in selection of key data sets for analysis; and (3) transparency, thoroughness, and clarity in quantitative uncertainty analysis. The full NAS report, including recommendations, is available at http://books.nap.edu/catalog.php?record_id=11688.

In response to the recommendations presented in the 2006 NAS review, the EPA published a “Science Plan for Activities Related to Dioxins in the Environment” on May 26, 2009. The plan states that EPA will prepare a draft report that responds to the recommendations and comments in the NAS report and that the SAB will peer review the science content of EPA's draft report. Following the SAB review, EPA will release the final response to comments report, and focus on completion of the 2003 reassessment.

In response to the request from ORD, the SAB staff office solicited nominations of experts and formed a review panel for dioxin [Federal Register Notice dated October 15, 2008 (73 FR 61114-61115)]. The SAB panel will conduct a review of the May 2010 External Review Draft of EPA's Reanalysis of Key Issues Related to Dioxin Toxicity and Response to NAS Comments. Specifically, the panel is being asked to evaluate: The transparency and clarity in the selection of key data sets for dose-response analysis; the use of toxicokinetics in dose-response modeling for cancer and non-cancer endpoints; the derivation of the chronic reference dose; cancer assessment; and EPA's comments regarding the feasibility of the quantitative uncertainty analysis from the NAS evaluation of the 2003 reassessment. The purpose of the teleconference is for the panel to be briefed on the EPA draft response to comments document and to allow panel members to ask clarifying questions on the charge to the panel. During the face-to-face meeting, the panel will review the draft EPA document.

Availability of Meeting Materials: Agendas and materials in support of these meetings will be placed on the SAB Web site at http://www.epa.gov/sab in advance of each meeting. For technical questions and information concerning EPA's draft document, please contact Dr. Glenn Rice at (513) 569-7813, or rice.glenn@epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a public teleconference will be limited to three minutes per speaker, with no more than a total of 30 minutes for all speakers. At the face-to-face meeting, presentations will be limited to five minutes, with no more than a total of one hour for all speakers. Each person making an oral statement should consider providing written comments as well as their oral statement so that the points presented orally can be expanded upon in writing. Interested parties should contact Dr. Thomas Armitage, DFO, in writing (preferably via e-mail) at the contact information noted above, by June 21, 2010 for the teleconference, and by July 7, 2010 for the face-to-face meeting, to be placed on the list of public speakers. Written Statements: Written statements should be supplied to the DFO via e-mail at the contact information noted above, by June 22, 2010 for the teleconference, and by July 9, 2010 for the face-to-face meeting so that the information may be made available to the Committee members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Dr. Thomas Armitage at (202) 343-9995 or armitage.thomas@epa.gov. To request accommodation of a disability, please contact Dr. Armitage preferably at least ten days prior to the teleconference to give EPA as much time as possible to process your request.

Dated: May 17, 2010.
Anthony F. Maciorowski,
Deputy Director, EPA Science Advisory Board Staff Office.

[FR Doc. 2010-12397 Filed 5-21-10; 8:45 am]

BILLING CODE 6560-50-P